DEPARTMENT OF DEFENSE

Office of the Secretary

[Docket ID DoD-2015-OS-0021]

Proposed Collection; Comment Request

AGENCY: Defense Security Cooperation Agency, DoD.

ACTION: Notice.

SUMMARY: In compliance with the Paperwork Reduction Act of 1995, the Defense Security Cooperation Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 27, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within the same electronic docket and downloaded for reviewing/testing. Follow the instructions at http://www.regulations.gov for submitting comments. Please submit comments on any given form identified by docket number, form number, and title.

FOR FURTHER INFORMATION CONTACT: To request more information on this proposed information collection or to obtain a copy of the proposal and associated collection instruments, please write to: The Defense Security Cooperation Agency (DSCA) (ATTN: David Frasher, 220 12th Street South, Suite 203, Arlington VA, 22202-5408 or call (703) 601-4459 or Defense Institute of Security Assistance Management (DISAM), ATTN: Donald McCormick, 2475 K Street, Wright-Patterson AFB, OH 45433-7803, or call Director of Academic Support, at 937-713-3340.

SUPPLEMENTARY INFORMATION:

Title; Associated Form; and OMB Number: The DISAM Information Technology Mission System (DISM) Collection; DISAM Form GSI-001 and Student Registration Form; OMB Control Number 0704-XXXX.

Needs and Uses: The DISAM Information Technology Mission System (DISM): Is a web based portal designed to hold several web applications for the purposes of efficient administration of U.S. and international students, and the effective management of DISAM personnel and guest lecturers. The portal provides DISAM personnel the ability to submit travel request and travel arrangements. Finally, the web based portal uses a relational database to record, manage and report information about students, personnel, travel. Reports of annual training of Foreign nationals to Congress as required by 22 U.S. Code 2394 (Foreign Assistance Act (FAA)) and 22 U.S. Code 2770A (Arms Export Control Act (AECA)).

Affected Public: Individuals and Households.

Disam Student Registration Form:

Annual Burden Hours: 2388 hours.

Number of Respondents: 4775.

Responses per Respondent: 2.

Annual Responses: 9551.

Average Burden per Response: 15 minutes.

Frequency: On occasion.

Disam Guest Speaker Form: (Still in development).

Annual Burden Hours: 62.

Number of Respondents: 249.

Responses per Respondent: 1.

Annual Responses: 249.

Average Burden per Response: 15 min.

Frequency: On occasion.

Average Totals:

Annual Burden Hours: 1884 hours.

Number of Respondents: 5024.

Responses per Respondent: 1.5.

Annual Responses: 7536.

Average Burden per Response: 15 min.

Respondents are contractor personnel, non-DOD U.S. Federal Government, Foreign Service nationals and industry students, guest speakers and lecturers involved in the Security Cooperation initiatives as prescribed by the President of the United States, Congress and Departments of State and Defense. Security Cooperation and Assistance programs as authorized by the Foreign Assistance Act (FAA), and the Arms Export Control Act (AECA) are required to be administered by qualified personnel receiving formal education through the Defense Institute of Security Assistance Management (DISAM) or other authorized Security Cooperation agencies. If the information collected on the student registration form is not collected, personnel looking to verify the qualifications of individuals in the Security Cooperation workforce database on the SAN, DISAM Student Database or the DISAM Personnel Database would be unable to match personnel to training and ensure compliance with DepSecDef directive and federal law requiring the reporting of training of foreign nationals (ref. AECA). The DISAM Personnel Database in conjunction with the Travel Forms maintains records of the personnel TDY travel and reimbursement as required by federal law and DoD regulations.

Dated: February 19, 2015.
Aaron Siegel,
Alternate OSD Federal Register, Liaison Officer, Department of Defense.

[FR Doc. 2015-03785 Filed 2-24-15; 8:45 am]

BILLING CODE 5001-06-P